DEPARTMENT OF ENERGY

Federal Energy Regulatory Commission

Combined Notice of Filings #1

Take notice that the Commission received the following electric corporate filings:

Docket Numbers: EC19-20-000.

Applicants: Beech Ridge Energy LLC, Beech Ridge Energy II LLC, Beech Ridge Energy II Holdings LLC, Beech Ridge Energy Storage LLC, Camilla Solar Energy LLC, Buckeye Wind Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Hardin Wind Energy LLC, Hardin Wind Energy Holdings LLC, Invenergy TN LLC, Judith Gap Energy LLC, Pine River Wind Energy LLC, Prairie Breeze Wind Energy II LLC, Prairie Breeze Wind Energy III LLC, Sheldon Energy LLC, Spring Canyon Energy LLC, States Edge Wind I LLC, States Edge Wind I Holdings LLC, Stony Creek Energy LLC, Upstream Wind Energy LLC, Vantage Wind Energy LLC, Willow Creek Energy LLC, Wolverine Creek Energy LLC, Wolverine Creek Goshen Interconnection, LLC.

Description: Application for Authorization Under Section 203 of the Federal Power Act, et al. of Beech Ridge Energy LLC, et al.

Filed Date: 10/31/18.

Accession Number: 20181031-5194.

Comments Due: 5 p.m. ET 11/21/18.

Take notice that the Commission received the following exempt wholesale generator filings:

Docket Numbers: EG19-14-000.

Applicants: Carson Hybrid Energy Storage LLC.

Description: Carson Hybrid Energy Storage LLC Submits EWG Self-Certification.

Filed Date: 10/31/18.

Accession Number: 20181031-5179.

Comments Due: 5 p.m. ET 11/21/18.

Take notice that the Commission received the following electric rate filings:

Docket Numbers: ER19-220-000.

Applicants: Southern California Edison Company.

Description: § 205(d) Rate Filing: SCE 2019 TRBAA Update to be effective 1/1/2019.

Filed Date: 10/30/18.

Accession Number: 20181030-5121.

Comments Due: 5 p.m. ET 11/20/18.

Docket Numbers: ER19-221-000.

Applicants: San Diego Gas & Electric Company.

Description: § 205(d) Rate Filing: TO5 Formula Tariff Filing to be effective 1/1/2019.

Filed Date: 10/30/18.

Accession Number: 20181030-5125.

Comments Due: 5 p.m. ET 11/20/18.

Docket Numbers: ER19-223-000.

Applicants: MidWest Power.

Description: Baseline eTariff Filing: Application for Market Based Rate to be effective 1/1/2019.

Filed Date: 10/30/18.

Accession Number: 20181030-5161.

Comments Due: 5 p.m. ET 11/20/18.

Docket Numbers: ER19-224-000.

Applicants: Southwest Power Pool, Inc.

Description: § 205(d) Rate Filing: Revisions to Attachment Y to Add Competitive Upgrade Re-Eevaluation Process to be effective 12/29/2018.

Filed Date: 10/30/18.

Accession Number: 20181030-5195.

Comments Due: 5 p.m. ET 11/20/18.

Docket Numbers: ER19-225-000.

Applicants: Arizona Public Service Company.

Description: Tariff Cancellation: Cancellation of Service Agreement No. 368 to be effective 12/31/2018.

Filed Date: 10/30/18.

Accession Number: 20181030-5196.

Comments Due: 5 p.m. ET 11/20/18.

Docket Numbers: ER19-226-000.

Applicants: Wisconsin Public Service Corporation.

Description: § 205(d) Rate Filing: WPSC Rate Filing W-1A Tariff and Rate Schedule No. 87 to be effective 11/1/2018.

Filed Date: 10/30/18.

Accession Number: 20181030-5197.

Comments Due: 5 p.m. ET 11/20/18.

Docket Numbers: ER19-227-000.

Applicants: Entergy Services, LLC.

Description: § 205(d) Rate Filing: Entergy Services, LLC to be effective 10/30/2018.

Filed Date: 10/30/18.

Accession Number: 20181030-5206.

Comments Due: 5 p.m. ET 11/20/18.

Docket Numbers: ER19-228-000.

Applicants: Arizona Public Service Company.

Description: § 205(d) Rate Filing: Service Agreement No. 369—LCWCD to be effective 10/1/2018.

Filed Date: 10/30/18.

Accession Number: 20181030-5207.

Comments Due: 5 p.m. ET 11/20/18.

Docket Numbers: ER19-229-000.

Applicants: Allegheny Ridge Wind Farm, LLC.

Description: Baseline eTariff Filing: Reactive Power Compensation Filing to be effective 12/30/2018.

Filed Date: 10/31/18.

Accession Number: 20181031-5031.

Comments Due: 5 p.m. ET 11/21/18.

Docket Numbers: ER19-230-000.

Applicants: Southwest Power Pool, Inc.

Description: § 205(d) Rate Filing: 2891R4 AECC and Entergy Arkansas Attachment AO to be effective 10/1/2018.

Filed Date: 10/31/18.

Accession Number: 20181031-5040.

Comments Due: 5 p.m. ET 11/21/18.

Docket Numbers: ER19-231-000.

Applicants: Dynegy Oakland, LLC.

Description: § 205(d) Rate Filing: Annual Reliability Must Run Agreement and Schedule F Informational Filings to be effective 1/1/2019.

Filed Date: 10/31/18.

Accession Number: 20181031-5054.

Comments Due: 5 p.m. ET 11/21/18.

Docket Numbers: ER19-232-000.

Applicants: Midcontinent Independent System Operator, Inc.

Description: § 205(d) Rate Filing: 2018-10-31_SA 3194 OSER-Ameren Illinois GIA (J641) to be effective 10/17/2018.

Filed Date: 10/31/18.

Accession Number: 20181031-5055.

Comments Due: 5 p.m. ET 11/21/18.

Docket Numbers: ER19-233-000.

Applicants: California Power Exchange Corporation.

Description: § 205(d) Rate Filing: Rate Filing for Rate Period 34 to be effective 1/1/2019.

Filed Date: 10/31/18.

Accession Number: 20181031-5070.

Comments Due: 5 p.m. ET 11/21/18.

Docket Numbers: ER19-234-000.

Applicants: Grant Wind, LLC.

Description: Initial rate filing: Amended and Restated Co-Tenancy and Shared Facilities Agreement Filing to be effective 11/1/2018.

Filed Date: 10/31/18.

Accession Number: 20181031-5074.

Comments Due: 5 p.m. ET 11/21/18.

Docket Numbers: ER19-235-000.

Applicants: Startrans IO, LLC.

Description: § 205(d) Rate Filing: TRBAA 2019 Update to be effective 1/1/2019.

Filed Date: 10/31/18.

Accession Number: 20181031-5084.

Comments Due: 5 p.m. ET 11/21/18.

Docket Numbers: ER19-236-000.

Applicants: Grant Plains Wind, LLC.

Description: Initial rate filing: Amended and Restated Co-Tenancy and Shared Facilities Agreement Filing to be effective 11/1/2018.

Filed Date: 10/31/18.

Accession Number: 20181031-5109.

Comments Due: 5 p.m. ET 11/21/18.

Docket Numbers: ER19-237-000.

Applicants: PJM Interconnection, L.L.C.

Description: § 205(d) Rate Filing: Original ISA SA No. 5225; Queue No. AB2-059 to be effective 10/3/2018.

Filed Date: 10/31/18.

Accession Number: 20181031-5126.

Comments Due: 5 p.m. ET 11/21/18.

Docket Numbers: ER19-238-000.

Applicants: PJM Interconnection, L.L.C.

Description: § 205(d) Rate Filing: Original ISA SA No. 5222; Queue No. AB2-169 to be effective 10/2/2018.

Filed Date: 10/31/18.

Accession Number: 20181031-5151.

Comments Due: 5 p.m. ET 11/21/18.

Docket Numbers: ER19-239-000.

Applicants: Florida Power & Light Company.

Description: § 205(d) Rate Filing: FPL Revisions to GTC Rate Schedule FERC No. 321 to be effective 1/1/2019.

Filed Date: 10/30/18.

Accession Number: 20181030-5250.

Comments Due: 5 p.m. ET 11/20/18.

Take notice that the Commission received the following electric securities filings:

Docket Numbers: ES19-4-000.

Applicants: Nantucket Electric Company, The Narragansett Electric Company, Niagara Mohawk Power Corporation, New England Hydro-Transmission Electric Company, Inc., National Grid Generation LLC.

Description: Joint Application under Section 204 of the Federal Power Act for Authorization to Issue Securities of Nantucket Electric Company, et al.

Filed Date: 10/31/18.

Accession Number: 20181031-5203.

Comments Due: 5 p.m. ET 11/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2018.
Nathaniel J. Davis, Sr.,
Deputy Secretary.

[FR Doc. 2018-24241 Filed 11-5-18; 8:45 am]

BILLING CODE 6717-01-P